DEPARTMENT OF COMMERCE

National Oceanic and Atmospheric Administration

Agency Information Collection Activities; Submission to the Office of Management and Budget (OMB) for Review and Approval; Comment Request; Economic Impacts of Reef Diving and Snorkeling

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 19, 2021 (86 FR 5142) during a 60-day comment period. This notice allows for an additional 30 days for public comments.

Agency: National Oceanic and Atmospheric Administration (NOAA).

Title: Economic Impacts of Reef Diving and Snorkeling.

OMB Control Number: 0648-0765.

Form Number(s): None.

Type of Request: Regular (revision and extension of a currently approved collection).

Number of Respondents: 3,500.

Average Hours per Response: 25 minutes.

Total Annual Burden Hours: 1,470.

Needs and Uses: The objective of the survey will be to understand divers' and snorkelers' expenditures associated with recreational coral reef diving activities in Hawaii, American Samoa, CNMI, Guam, and the Caribbean. The survey was previously implemented in Hawaii in 2019 and this revision proposes to make the survey national in scope. The title of the collection will be changed to Economic Impacts of Reef Diving and Snorkeling from Economic Impacts of Hawaii Reef Diving and Snorkeling. The survey will also collect information on divers' attitudes, preferences, and concerns about recreational diving and coral reefs health. This survey will help to improve our understanding of divers' and snorkelers' expenditure patterns and to estimate the economic impact of coral reef related spending. Results of the survey will be used to inform coastal resource management planning and establish a baseline for outreach and education. The expenditure survey is also expected to provide useful information for local economic and business interests.

Affected Public: Individuals or households.

Frequency: Once.

Respondent's Obligation: Voluntary.

Legal Authority: U.S. Code: 16 U.S.C. 6401 et seq. Name of Law: Coral Reef Conservation Act of 2000.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0765.

Sheleen Dumas,
Department PRA Clearance Officer, Office of the Chief Information Officer, Commerce Department.

[FR Doc. 2021-12369 Filed 6-11-21; 8:45 am]

BILLING CODE 3510-22-P